JUDICIAL CONFERENCE OF THE UNITED STATES

Meeting of the Judicial Conference Advisory Committee on Rules of Appellate Procedure

AGENCY: Judicial Conference of the United States, Advisory Committee on Rules of Appellate Procedure.

ACTION: Notice of open meeting.

SUMMARY: The Advisory Committee on Rules of Appellate Procedure will hold a two-day meeting. The meeting will be open to public observation but not participation.

DATES: September 27-28, 2012.

Time: 8:30 a.m. to 5 p.m.

ADDRESSES: University of Pennsylvania Law School, 3400 Chestnut Street, Philadelphia, PA 19104.

FOR FURTHER INFORMATION CONTACT: Benjamin J. Robinson, Deputy Rules Officer and Counsel, Administrative Office of the United States Courts, Washington, DC 20544, telephone (202) 502-1820.

Dated: February 21, 2012.
Benjamin J. Robinson,
Deputy Rules Officer and Counsel.

[FR Doc. 2012-4636 Filed 2-27-12; 8:45 am]

BILLING CODE 2210-55-P